DEPARTMENT OF THE INTERIOR

Fish and Wildlife Service

Big Branch Marsh National Wildlife Refuges

AGENCY: Fish and Wildlife Service, Interior.

ACTION: Notice of intent to prepare a Comprehensive Conservation Plan and Environmental Assessment for Big Branch Marsh Wildlife Refuge, located in St. Tammany Parish, Louisiana.

SUMMARY: The Fish and Wildlife Service, Southeast Region, intends to gather information necessary to prepare a comprehensive conservation plan and environmental assessment pursuant to the National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on the scope of issues to include in the environmental document.

Special mailings, newspaper articles, and other media announcements will be used to inform the public and state and local government agencies of the opportunities for input throughout the planning process. Open house style meetings and focus group meetings also will be held throughout the scoping phase of the comprehensive conservation plan development process. In addition, the Service will be inviting comments on archaeological, historic, and traditional cultural sites in accordance with the National Historic Preservation Act.

DATES: To ensure consideration, we must receive written comments on or before February 26, 2004.

ADDRESSES: Address comments, questions, and requests for more information to Barbara Boyle, Deputy Project Leader, Southeast Louisiana Refuges, 61389 Highway 434, Lacombe, Louisiana 70445. Additional information concerning this refuge may be found on the Fish and Wildlife Services's Internet site at http://www.fws.gov.

SUPPLEMENTARY INFORMATION: By Federal law, all lands within the National Wildlife Refuge System are to be managed in accordance with an approved comprehensive conservation plan. This plan guides management decisions and identifies the goals, long-range objectives, and strategies for achieving refuge purposes. The planning process will consider many elements, including wildlife and habitat management, habitat protection and acquisition, wilderness preservation, public recreational activities, industrial use, and cultural resource preservation. Public input into this planning process is essential.

Big Branch Marsh National Wildlife Refuge, established in 1994, is one of seven refuges administered by the Southeast Louisiana National Wildlife Refuge Complex, and is managed primarily to provide habitat for a natural diversity of wildlife associated with Big Branch Marsh. Refuge objectives are to provide wintering habitat for migratory waterfowl; habitat for non-game migratory birds; habitat for threatened and endangered species; nesting habitat for wood ducks; and, to provide opportunities for outdoor recreation such as hunting, fishing, hiking, birdwatching, and environmental education and interpretation—whenever compatible with the purposes of the refuge.

FOR FURTHER INFORMATION CONTACT: Deputy Project Leader, Southeast Louisiana Refuges, telephone: 985/882-2000; fax: 985/882-9133; e-mail: barbara_boyle@fws.gov; or mail (write to the Deputy Project Leader at address in ADDRESSES section).

Authority: This notice is published under the authority of the National Wildlife Refuge System Improvement Act of 1997, Pub. L. 105-57.

Dated: December 5, 2003.
J. Mitch King,
Acting Regional Director.

[FR Doc. 04-544 Filed 1-9-04; 8:45 am]

BILLING CODE 4310-55-M